ENVIRONMENTAL PROTECTION AGENCY

[EPA-R01-OAR-2008-0117; A-1-FRL-8578-4]

Adequacy Status of the Connecticut 8-Hour Ozone Motor Vehicle Emissions Budgets and Out-Year Motor Vehicle Emissions Budgets for Transportation Conformity Purposes; Connecticut

AGENCY: Environmental Protection Agency (EPA).

ACTION: Notice of adequacy.

SUMMARY: EPA is notifying the public that EPA has found that the 2008, 2009 and 2012 motor vehicle emissions budgets in the February 1, 2008 Connecticut 8-hour ozone State Implementation Plan revision are adequate for transportation conformity purposes. The submittal includes 2008, 2009 and 2012 motor vehicle emission budgets for the Connecticut portion of the New York-Northern New Jersey-Long Island, NY-NJ-CT (Southwest Connecticut) and the Greater Connecticut 8-hour ozone nonattainment areas. As a result of our finding, Connecticut must use these motor vehicle emission budgets for future conformity determinations.

DATES: This finding is effective June 27, 2008.

FOR FURTHER INFORMATION CONTACT: Donald O. Cooke, Environmental Scientist, Air Quality Planning Unit, U.S. Environmental Protection Agency, EPA New England Regional Office, One Congress Street, Suite 1100 (CAQ), Boston, MA 02114-2023, (617) 918-1668, cooke.donald@epa.gov.

SUPPLEMENTARY INFORMATION: Throughout this document, whenever “we,” “us” or “our” is used, we mean EPA.

Today's action is simply an announcement of a finding that we have already made. EPA New England sent a letter to the Connecticut Department of Environmental Protection on June 2, 2008, stating that the 2008, 2009 and 2012 motor vehicle emissions budgets (MVEBs) in the Connecticut portion of the New York-Northern New Jersey-Long Island, NY-NJ-CT (Southwest Connecticut) and the Greater Connecticut 8-hour ozone nonattainment areas are adequate. Connecticut submitted the budgets on February 1, 2008, as part of the 8-hour ozone attainment demonstration and reasonable further progress plan for Southwest and Greater Connecticut. This submittal was announced on EPA's conformity Web site, and received no comments. (See http://www.epa.gov/otaq/stateresources/transconf/adequacy.htm. Once there, click on “What SIP submissions are currently under EPA adequacy review?”)

The 2008, 2009, and 2012 MVEBs, in tons per summer day (tpsd), for volatile organic compounds (VOC) and oxides of nitrogen (NOX) for Southwest and Greater Connecticut, are as follows:

2008, 2009 and 2012 Adequate Motor Vehicle Emissions Budgets
Year | Connecticut portion of the New York- Northern New Jersey-Long Island, NY-NJ-CT (Southwest CT) Area: VOC (tpsd) | Connecticut portion of the New York- Northern New Jersey-Long Island, NY-NJ-CT (Southwest CT) Area: NOX (tpsd) | Greater Connecticut area: VOC (tpsd) | Greater Connecticut area: NOX (tpsd)
Year 2008 | 29.7 | 60.5 | 28.5 | 54.3
Year 2009 | 27.4 | 54.6 | 26.3 | 49.2
Year 2012 | 20.6 | 38.2 | 19.8 | 34.8

Transportation conformity is required by section 176(c) of the Clean Air Act. EPA's conformity rule requires that transportation plans, programs, and projects conform to state air quality implementation plans and establishes the criteria and procedures for determining whether or not they do. Conformity to a SIP means that transportation activities will not produce new air quality violations, worsen existing violations, or delay timely attainment of the national ambient air quality standards.

The criteria by which we determine whether a SIP's motor vehicle emissions budgets are adequate for conformity purposes are outlined in 40 CFR 93.118(e)(4). We have described our process for determining the adequacy of submitted SIP budgets in our July 1, 2004, preamble starting at 69 FR 40038, and we used the information in these resources while making our adequacy determination. Please note that an adequacy review is separate from EPA's completeness review, and it also should not be used to prejudge EPA's ultimate approval of the SIP. Even if we find a budget adequate, the SIP could later be disapproved.

Authority: 42 U.S.C. 7401-7671q.

Dated: June 4, 2008.
Robert W. Varney,
Regional Administrator, EPA New England.

[FR Doc. E8-13224 Filed 6-11-08; 8:45 am]

BILLING CODE 6560-50-P